DEPARTMENT OF THE INTERIOR

Bureau of Indian Affairs

Tribal Consultation for Facilities Management Activities

AGENCY: Bureau of Indian Affairs, Interior.

ACTION: Notice of meetings.

SUMMARY: This notice announces that the Bureau of Indian Affairs (BIA) and the Bureau of Indian Education (BIE) will be conducting tribal consultation meetings to obtain oral and written comments on potential facility management commercial activities and to determine whether these facility management activities should be: provided by a private sector provider through a contract; by government personnel through a letter of obligation; or by a public reimbursable source through a fee-for-service agreement within Indian Country. The proposed topic is the Office of Management and Budget (OMB) Circular A-76 standard study on the facilities management within BIA/BIE. The intended effect of the A-76 study is to review and select which facilities management functions will be considered for competition. The intended results are to improve performance, become more efficient through the A-76 process, and reduce overall program cost. The potential issues set forth will be described in a tribal consultation booklet issued prior to the meetings by BIA/BIE.

DATES: The tribal consultation meeting dates are scheduled for:

1. April 14, 2008, 9 a.m. to 3 p.m., Window Rock, AZ.

2. April 17, 2008, 9 a.m. to 3 p.m., Rapid City, SD.

3. April 21, 2008, 9 a.m. to 3 p.m., Albuquerque, NM.

Please submit written comments on April 28, 2008 before 5 p.m. (m.s.t.).

ADDRESSES: The tribal consultation meeting locations are:

1. New Mexico—Navajo Education Center Building (Auditorium), off Morgan Boulevard, Window Rock, AZ, 86515.

2. Rapid City—Best Western Ramkota Hotel-conference room, 2111 N. La Crosse Street, Rapid City, SD, 57701.

3. New Mexico—Bureau of Indian Affairs, 1011 Indian School Road NW, second floor (check the marquee), Albuquerque, NM, 87104.

You may submit written comments by any of the following methods:

• E-mail: dbrown@bia.edu.

• Fax: (505) 563-3019.

• Mail: Bureau of Indian Affairs, Attn: David Brown, Supervisory Procurement Analyst, 1001 Indian School Road NW., Room 325, Albuquerque, NM 87104.

FOR FURTHER INFORMATION CONTACT: David Brown, (505) 563-3011.

SUPPLEMENTARY INFORMATION: As part of the study, BIA is encouraging a consultation process to discuss an A-76 study on facilities management activities and explore the most favorable option to improve program performance and reduce overall cost. The meetings will be held to inform, educate and seek opinions about the processes involved in OMB's Circular A-76. As required by 25 U.S.C. 2011(b), the purpose of the consultation is to provide Indian tribes, school boards, Indian organizations and other interested parties with an opportunity to comment on Circular A-76 and actions being considered by the BIA and BIE.

A consultation booklet will be available to any Indian tribes, school boards, Indian organizations and other interested parties at the scheduled meetings or prior to these meetings (via postal mail only) by contacting David Brown at the number above.

Public Comment Availability

Comments, including names, street addresses, and other contact information of respondents, will be available for public review at the address listed under the ADDRESSES section during regular business hours (9 a.m. to 4:15 p.m. m.s.t.), Monday through Friday, except Federal holidays. Individual respondents may request confidentiality.

If you wish us to withhold your name, street address, and other contact information (such as fax or phone number) from public review or from disclosure under the Freedom of Information Act (5 U.S.C. 552; 43 CFR Part 2, subparts A through E), you must state this prominently at the beginning of your comment. We will honor your request to the extent allowable by law.

On May 7, 2008, any interested party can review all written comments and transcripts. Contact David Brown if you are interested in viewing these comments and transcripts.

Dated: March 25, 2008.
Carl J. Artman,
Assistant Secretary—Indian Affairs.

[FR Doc. E8-6644 Filed 3-31-08; 8:45 am]

BILLING CODE 4310-02-P